DEPARTMENT OF COMMERCE

National Oceanic and Atmospheric Administration

[I.D. 053000B]

Submission for OMB Review; Proposed Information Collection; Comment Request

The Department of Commerce has submitted to the Office of Management and Budget (OMB) for clearance the following proposal for collection of information under the provisions of the Paperwork Reduction Act (44 U.S.C. Chapter 35).

Agency: National Oceanic and Atmospheric Administration (NOAA).

Title: Atlantic Highly Migratory Species Vessel Permits.

Agency Form Number(s): None.

OMB Approval Number: 0648-0327.

Type of Request: Regular submission.

Burden Hours: 4,700.

Number of Respondents: 25,000.

Average Hours Per Response: 30 minutes for initial applications, 6 minutes for renewal applications.

Needs and Uses: Persons wishing to participate in the Federal Atlantic Highly Migratory Species Fishery (Atlantic tunas, sharks, swordfish, and billfish) must apply for an annual fishing permit. The information in the applications is necessary for managing the fishery and complying with international obligations.

Affected Public: Business or other for-profit institutions, and, individuals.

Frequency: Annual.

Respondent's Obligation: Mandatory.

OMB Desk Officer: David Rostker, (202) 395-3897.

Copies of the above information collection proposal can be obtained by calling or writing Linda Engelmeier, DOC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: May 26, 2000.
Madeleine Clayton,
Management Analyst, Office of the Chief Information Officer.

[FR Doc. 00-13853 Filed 6-1-00; 8:45 am]

BILLING CODE 3510-22-F